DEPARTMENT OF AGRICULTURE

Public Meeting of the Black Hills National Forest Advisory Board

AGENCY: Forest Service, USDA.

ACTION: Notice of meeting.

SUMMARY: The Black Hills National Forest Advisory Board (NFAB) will hold a meeting to review and continue discussion of its operational procedures and develop a list of issues areas. The meeting is open, and the public may attend any part of the meeting.

DATES: The meeting will be held on Friday, May 2, 2003, from 1 to 5 p.m.

ADDRESSES: The meeting will take place at the Ramkota Best Western Hotel located at 2111 LaCrosse Street, Rapid City, SD.

FOR FURTHER INFORMATION CONTACT: Frank Carroll, Black Hills National Forest, 25041 North Highway 16, Custer, SD, 57730, (605) 673-9200.

Dated: April 21, 2003.
David M. Thom,
Acting Black Hills National Forest Supervisor.

[FR Doc. 03-10226 Filed 4-24-03; 8:45 am]

BILLING CODE 3410-11-M